FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 14, 2005.

A. Federal Reserve Bank of Atlanta (Sue Costello, Vice President) 1000 Peachtree Street, N.E., Atlanta, Georgia 30309-4470:

1. NBOG Bancorporation, Inc., Gainesville, Georgia; after-the-fact change in control noticed by Dr. Wendell A. Turner, Gainesville, Georgia, to retain 10.56 percent of the outstanding shares of NBOG Bancorporation, Inc., and its subsidiary, National Bank of Gainesville, both of Gainesville, Georgia.

Board of Governors of the Federal Reserve System, December 23, 2004.
Jennifer J. Johnson,
Secretary of the Board.

[FR Doc. 04-28509 Filed 12-28-04; 8:45 am]

BILLING CODE 6210-01-S